DEPARTMENT OF HOMELAND SECURITY

Coast Guard

33 CFR Part 165

[Docket No. USCG-2017-0539]

Safety Zones; Coast Guard Sector Ohio Valley Annual and Recurring Safety Zones

AGENCY: Coast Guard, DHS.

ACTION: Notice of enforcement of regulations.

SUMMARY: The Coast Guard will enforce several recurring safety zones on navigable waterways within Sector Ohio Valley. This regulatory action is necessary to provide for the safety of life and protection of vessels from the hazards associated with fireworks displays, festivals, and events. During the enforcement period, entry into these safety zones is prohibited unless specifically authorized by the Captain of the Port Ohio Valley (COTP) or a designated representative.

DATES: The regulations in 33 CFR 165.801, Table 1, will be enforced for the safety zones within Sector Ohio Valley as identified in SUPPLEMENTARY INFORMATION.

FOR FURTHER INFORMATION CONTACT: If you have questions about this notice of enforcement, call or email Petty Officer James Robinson, Sector Ohio Valley, U.S. Coast Guard; telephone 502-779-5347, email James.C.Robinson@uscg.mil.

SUPPLEMENTARY INFORMATION: The Coast Guard will enforce the safety zones in 33 CFR 165.801, Table 1, lines 13, 17, 19, 21, 22, 23, 24, 25, 26, 27, 29, 50, and 69 as follows:

Line 13, Riverview Park Independence Festival, from 9:30 p.m. through 11 p.m. on July 1, 2017; Line 17, Louisville Bats Firework Show, from 9 p.m. through 11 p.m. on July 4, 2017; Line 19, All American 4th of July, from 9 p.m. through 10 p.m. on July 4, 2017; Line 21, Spirit of Freedom Fireworks, from 9 p.m. through 9:30 p.m. on July 4, 2017; Line 22, Lighting up the Cumberlands Fireworks, from 9 p.m. through 9:30 p.m. on July 1, 2017; Line 23, Knoxville July 4th Fireworks, from 9:40 p.m. through 10:10 p.m. on July 4, 2017; Line 24, Music City July 4th, from 9 p.m. through 9:30 p.m. on July 4, 2017; Line 25, Grand Harbor Marina July 4th Celebration, from 10 p.m. through 10:20 p.m. on July 1, 2017; Line 26, City of Bellevue, KY/Bellevue Beach Park Concert Fireworks, from 9 p.m. through 11 p.m. on July 08, 2017; Line 27, Cincinnati Bell, WEBN, and Proctor Riverfest, from 12 p.m. to 10 p.m. on September 3, 2017; Line 29, City of Point Pleasant/Point Pleasant Sternwheel Fireworks, from 9:30 p.m. through 10 p.m. on July 1, 2017; Line 50, Evansville Freedom Celebration, from 9:45 p.m. through 10:15 p.m. on July 4, 2017; and Line 69, Newburgh Fireworks Display, from 9:45 p.m. through 10:10 p.m. on July 1, 2017. The regulations for the Coast Guard Sector Ohio Valley Annual and Recurring Safety Zones, § 165.801, Table 1, specifies the locations of these safety zones. As specified in § 165.23, during the enforcement period, no vessel may transit these safety zones without approval from the Captain of the Port Ohio Valley (COTP) or a designated representative. Sector Ohio Valley may be contacted on VHF-FM radio channel 16 or phone at 1-800-253-7465.

This notice of enforcement is issued under authority of 33 CFR 165.801 and 5 U.S.C. 552(a). In addition to this notice in the Federal Register, the Coast Guard will provide the maritime community with advance notification of this enforcement period via Local Notice to Mariners and updates via Marine Information Broadcasts.

Dated: June 26, 2017.
M.B. Zamperini,
Captain, U.S. Coast Guard, Captain of the Port Ohio Valley.

[FR Doc. 2017-13766 Filed 6-29-17; 8:45 am]

BILLING CODE 9110-04-P